DEPARTMENT OF COMMERCE

National Oceanic and Atmospheric Administration

[RIN 0648-XA506]

Endangered Species; File Nos. 16266 and 16291

AGENCY: National Marine Fisheries Service (NMFS), National Oceanic and Atmospheric Administration (NOAA), Commerce.

ACTION: Issuance of permits.

SUMMARY: Notice is hereby given that the Virginia Living Museum, 524 J. Clyde Morris Boulevard, Newport News, VA 23602 [Chris Crippen, Responsible Party], and the Maritime Aquarium at Norwalk, 10 North Water Street, South Norwalk, CT 06854 [Ellen Riker, Responsible Party] have been issued permits to take shortnose sturgeon for purposes of enhancement.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

FOR FURTHER INFORMATION CONTACT: Colette Cairns or Jennifer Skidmore, (301) 713-2289.

SUPPLEMENTARY INFORMATION: On March 21, 2011, notice was published in the Federal Register (76 FR 15300) that a request for enhancement permits to take shortnose sturgeon had been submitted by the above-named organizations. The requested permits have been issued under the authority of the Endangered Species Act of 1973, as amended (ESA; 16 U.S.C. 1531 et seq.) and the regulations governing the taking, importing, and exporting of endangered and threatened species (50 CFR Parts 222-226).

The Virginia Living Museum and the Maritime Aquarium at Norwalk have been issued permits to continue enhancement activities previously authorized under Permit Nos. 1472 and 1473, respectively. Activities include the continued maintenance, transport and educational display of captive-bred, non-releaseable adult shortnose sturgeon. The permit does not authorize any takes from the wild, nor does it authorize any release of captive sturgeon into the wild. The permit is issued for a duration of 5 years.

Issuance of this permit, as required by the ESA, was based on a finding that such permit (1) Was applied for in good faith, (2) will not operate to the disadvantage of such endangered or threatened species, and (3) is consistent with the purposes and policies set forth in section 2 of the ESA.

Dated: June 20, 2011.
P. Michael Payne,
Chief, Permits, Conservation and Education Division, Office of Protected Resources, National Marine Fisheries Service.

[FR Doc. 2011-15894 Filed 6-23-11; 8:45 am]

BILLING CODE 3510-22-P